DEPARTMENT OF COMMERCE

International Trade Administration

[A-475-824]

Notice of Rescission of Antidumping Duty Administrative Review: Stainless Steel Sheet and Strip in Coils from Italy

AGENCY: Import Administration, International Trade Administration, Department of Commerce

ACTION: Notice of rescission of antidumping duty administrative review.

SUMMARY: In response to a request from ThyssenKrupp Acciai Speciali Terni S.p.A., a producer and exporter of subject merchandise, and ThyssenKrupp AST USA, Inc. (collectively TKAST), an importer of subject merchandise, the U.S. Department of Commerce (the Department) initiated an administrative review of the antidumping duty order on stainless steel sheet and strip (SSSS) in coils from Italy. No other interested party requested a review of TKAST. The period of review (POR) is July 1, 2003, through June 30, 2004. For the reasons discussed below, the Department is rescinding this administrative review.

EFFECTIVE DATE: September 24, 2004.

FOR FURTHER INFORMATION CONTACT: Angelica Mendoza at (202) 482-3019; AD/CVD Operations, Office Seven, Import Administration, International Trade Administration, U.S. Department of Commerce, 14th Street and Constitution Avenue NW., Washington, DC 20230.

SUPPLEMENTARY INFORMATION:

Background

On July 1, 2004, the Department published a notice of opportunity to request an administrative review of the antidumping duty order on SSSS in coils from Italy. See Antidumping or Countervailing Order, Finding, or Suspended Investigation; Opportunity to Request Administrative Review, 69 FR 39903. On August 24, 2004, pursuant to a request made by TKAST, the Department initiated an administrative review of the antidumping duty order on SSSS in coils from Italy. See Initiation of Antidumping and Countervailing Duty Administrative Reviews and Requests for Revocation in Part, 69 FR 52857 (August 30, 2004). On September 15, 2004, TKAST timely withdrew its request for an administrative review of SSSS in coils from Italy.

Rescission of Review

If a party that requested a review withdraws its request within 90 days of the date of publication of the notice of initiation of the requested review, the Secretary will rescind the review pursuant to 19 CFR 351.213(d)(1) of the Department's regulations. In the instant proceeding, TKAST withdrew its request for an administrative review within 90 days from the publication date of the notice of initiation. No other interested party requested a review. Therefore, the Department is rescinding the initiation of this administrative review of the antidumping duty order on SSSS in coils from Italy.

Notification to Importers

This notice serves as a final reminder to importers of their responsibility under 19 CFR 351.402(f) to file a certificate regarding the reimbursement of antidumping duties prior to liquidation of the relevant entries during this review period. Failure to comply with this requirement could result in the Secretary's assumption that reimbursement of antidumping duties occurred and subsequent assessment of double antidumping duties.

This notice also serves as a reminder to parties subject to administrative protective order (APO) of their responsibility concerning the disposition of proprietary information disclosed under APO in accordance with 19 CFR 351.305(a)(3) of the Department's regulations. Timely written notification of the return/destruction of APO materials or conversion to judicial protective order is hereby requested. Failure to comply with the regulations and the terms of an APO is a sanctionable violation.

This notice is in accordance with section 777(i)(1) of the Tariff Act of 1930, as amended, and 19 CFR 251.213(d)(4) of the Department's regulations.

Dated: September 20, 2004.
Jeffrey A. May,
Deputy Assistant Secretary for Import Administration.

[FR Doc. 04-21517 Filed 9-23-04; 8:45 am]

BILLING CODE 3510-DS-M